DEPARTMENT OF TRANSPORTATION

Federal Aviation Administration

Notice of Intent To Rule on Application To Impose and Use a Passenger Facility Charge (PFC) at San Jose International Airport, San Jose, CA

AGENCY: Federal Aviation Administration (FAA), DOT.

ACTION: Notice of Intent to rule on application.

SUMMARY: The FAA proposes to rule and invites public comment on the application to impose and use the revenue from a PFC at San Jose International Airport under the provisions of the Aviation Safety and Capacity Expansion Act of 1990 (Title IX of the Omnibus Budget Reconciliation Act of 1990) (Pub. L. 101-508) and part 158 of the Federal Aviation Regulations (14 CFR part 158).

DATES: Comments must be received on or before October 2, 2000.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1303. In addition, one copy of any comments submitted to the FAA must be mailed or delivered to Mr. Ralph G. Tonseth, Director of Aviation, city of San Jose, Airport Department, at the following address: 1732 N. First Street, San Jose, CA 95112. Air carriers and foreign air carriers may submit copies of written comments previously provided to the city of San Jose under § 158.23 of part 158.

FOR FURTHER INFORMATION CONTACT: Marlys Vandervelds, Airports Program Abalyst, San Francisco Airports District Office, 831 Mitten Road, Room 210, Burlingame, CA 94010-1303, Telephone: (650) 876-2806. The application may be reviewed in person at this same location.

SUPPLEMENTARY INFORMATION: The FAA proposes to rule and invites public comment on the application to impose and use the revenue from a PFC at San Jose International Airport under the provisions of the Aviation Safety and Capacity Expansion Act of 1990 (Title IX of the Omnibus Budget Reconciliation Act of 1990) (Pub. L. 101-508) and Part 158 of the Federal Aviation Regulations (14 CFR part 158). On August 7, 2000, the FAA determined that the application to impose and use the revenue from a PFC submitted by the city of San Jose was substantially complete within the requirements of § 158.25 of part 158. The FAA will approve or disapprove the application, in whole or in part, no later than November 11, 2000.

The following is a brief overview of the application (No. 00-09-C-00-SJC):

Level of proposed PFC: $3.00.

Proposed charge effective date: September 1, 2003.

Proposed charge expiration date: January 1, 2005.

Total estimated PFC revenue: $29,780,000.

Brief description of the proposed projects: Taxiway Z—Apron Reconstruction, Terminal C Fire Protection, Fiber Optic Cable to Airport Response Center and Fire Station 20, Green Island Bridge, Replacement of Security Access Control System and Closed Circuit Television System, Skyport Grade Separation, Terminal Drive Improvements, Replacement of Passive Secondary Surveillance Radar, Terminal C Restroom Upgrade, and Interim Air Cargo Ramp Expansion.

Class or classes of air carriers which the public agency has requested not be required to collect PFCs: Air Taxi/Commercial Operators (ATCO) filing FAA Form 1800-31.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the city of San Jose.

Issued in Hawthorne, California, on August 7, 2000.
Herman C. Bliss,
Manager, Airports Division, Western-Pacific Region.

[FR Doc. 00-22542 Filed 8-31-00; 8:45 am]

BILLING CODE 4910-13-M